DEPARTMENT OF DEFENSE

Office of the Secretary

[Transmittal Nos. 10-53, 10-54, 10-55, 10-59, 10-60, 10-61, and 10-63]

36(b)(1) Arms Sales Notifications

AGENCY: Defense Security Cooperation Agency, DoD.

ACTION: Notice.

SUMMARY: The Department of Defense is publishing the unclassified text of seven section 36(b)(1) arms sales notifications to fulfill the requirements of section 155 of Public Law 104-164, dated 21 July 1996.

FOR FURTHER INFORMATION CONTACT: Ms. B. English, DSCA/DBO/CFM, (703) 601-3740.

SUPPLEMENTARY INFORMATION: The following are copies of letters to the Speaker of the House of Representatives, Transmittals 10-53, 10-54, 10-55, 10-59, 10-60, 10-61, and 10-63 with associated attachments.

Dated: October 6, 2010.
Mitchell S. Bryman,
Alternate OSD Federal Register Liaison Officer, Department of Defense.

Transmittal No. 10-53

The following is a copy of a letter to the Speaker of the House of Representatives, Transmittal 10-53 with attached transmittal and policy justification.

BILLING CODE 5001-06-P

Transmittal No. 10-54

The following is a copy of a letter to the Speaker of the House of Representatives, Transmittal 10-54 with attached transmittal, policy justification, and sensitivity of technology.

Transmittal No. 10-55

The following is a copy of a letter to the Speaker of the House of Representatives, Transmittal 10-55 with attached transmittal, policy justification, and sensitivity of technology.

Transmittal No. 10-59

The following is a copy of a letter to the Speaker of the House of Representatives, Transmittal 10-59 with attached transmittal, policy justification, and sensitivity of technology.

Transmittal No. 10-60

The following is a copy of a letter to the Speaker of the House of Representatives, Transmittal 10-60 with attached transmittal and policy justification.

Transmittal No. 10-61

The following is a copy of a letter to the Speaker of the House of Representatives, Transmittal 10-61 with attached transmittal, policy justification, and sensitivity of technology.

Transmittal No. 10-63

The following is a copy of a letter to the Speaker of the House of Representatives, Transmittal 10-63 with attached transmittal, policy justification, and sensitivity of technology.

[FR Doc. 2010-25566 Filed 10-12-10; 8:45 am]

BILLING CODE 5001-06-C